DEPARTMENT OF COMMERCE

International Trade Administration

[C-580-818]

Corrosion-Resistant Carbon Steel Flat Products From the Republic of Korea: Partial Rescission of Countervailing Duty Administrative Review

AGENCY: Import Administration, International Trade Administration, Department of Commerce.

SUMMARY: In response to a request for administrative review received on August 31, 2010, the Department of Commerce (the Department) initiated an administrative review of the countervailing duty order on corrosion-resistant carbon steel flat products from the Republic of Korea covering the period January 1, 2009, through December 31, 2009. See Initiation of Antidumping and Countervailing Duty Administrative Reviews and Requests for Revocation in Part, 75 FR 60078 (September 29, 2010) (Initiation). As a result of withdrawals of request for review, we are rescinding this review, in part, with respect to Dongbu Steel (Dongbu) and Pohang Iron & Steel Co., Ltd. (POSCO).

DATES: Effective Date: January 25, 2011.

FOR FURTHER INFORMATION CONTACT: Gayle Longest, AD/CVD Operations, Office 3, Import Administration, International Trade Administration, U.S. Department of Commerce, 14th Street and Constitution Ave, NW., Washington, DC 20230; telephone (202) 482-3338.

SUPPLEMENTARY INFORMATION:

Background

On August 31, 2010, Dongbu and POSCO requested that the Department conduct an administrative review of their companies. On September 29, 2010, the Department initiated the review. See Initiation. On September 27, 2010, and October, 1, 2010, Dongbu and POSCO, respectively, withdrew their requests for administrative review and partial revocation of the countervailing duty order on corrosion-resistant carbon steel flat products from the Republic of Korea.

Partial Rescission of Review

Under 19 CFR 351.213(d)(1), the Department will rescind an administrative review, in whole or in part, if a party that requested a review withdraws the request within 90 days of the date of publication of the notice of initiation of the requested review.

The Initiation was published on September 29, 2010. The respondent companies submitted a timely request for withdrawal on September 27, 2010, and October 1, 2010. No other party requested administrative reviews of Dongbu or POSCO. Therefore, we are rescinding, in part, this review of the countervailing duty order of corrosion-resistant carbon steel flat products from the Republic of Korea with regard to Dongbu and POSCO. This review will continue with respect to Hyundai HYSCO Ltd. (HYSCO).

The Department will issue appropriate assessment instructions directly to U.S. Customs and Border Patrol (CBP) 15 days after publication of this notice. The Department will direct CBP to assess countervailing duties at the cash deposit rate in effect on the date of entry for entries during the period January 1, 2009, through December 31, 2009.

This notice is in accordance with section 777(i) of the Tariff Act of 1930, as amended, and 19 CFR 351.213(d)(4).

Dated: January 14, 2011.
Gary Taverman,
Acting Deputy Assistant Secretary for Antidumping and Countervailing Duty Operations.

[FR Doc. 2011-1393 Filed 1-24-11; 8:45 am]

BILLING CODE 3510-DS-P